DEPARTMENT OF TRANSPORTATION

Federal Transit Administration

Environmental Impact Statement on Transit Improvements in Los Angeles

AGENCY: Federal Transit Administration, DOT.

ACTION: Notice of Intent to Prepare an Environmental Impact Statement.

SUMMARY: The Federal Transit Administration (FTA) and the Los Angeles County Metropolitan Transportation Authority (MTA) intend to prepare an Environmental Impact Statement (EIS) in accordance with the National Environmental Policy Act (NEPA) for transportation improvements in Los Angeles County, California. In addition, the MTA will be jointly issuing an Environmental Impact Report (EIR), pursuant to the California Environmental Quality Act (CEQA). The purposes of the project are to improve east-west travel options in the San Fernando Valley and to provide a connection to other portions of a regional rail and bus network. The options being considered include Transportation Systems Management (TSM) and Bus Rapid Transit (BRT). The latter alternative would be focused on the former Southern Pacific (SP) Burbank/Chandler railroad right-of-way.

In the course of this study, FTA expects the MTA and the Southern California Association of Governments, which is responsible for transportation planning in metropolitan Los Angeles, to establish priorities for the proposed transit improvement in the San Fernando Valley and the myriad of other competing projects and transit needs in the region. This prioritization of proposed projects and other transit needs will involve, among other considerations, the development of a financial plan that identifies for each capital need the non-Federal funds to be used along with the proposed Federal funding.

DATES: Comment Due Date: Written comments on the scope of the alternatives and impacts to be considered should be sent to the address below by June 23, 2000.

Scoping Meeting Dates: Scoping workshops will be held on: May 24, 2000 at Sherman Oaks Women's Club from 6:00 p.m. until 8:00 p.m., and on May 25, 2000 at the Conference Room at Kaiser Permanente, Woodland Hills from 6:00 p.m. until 8:00 p.m. See the ADDRESSES below. The public is invited to arrive at any time. There will be no formal presentations; both workshops will be held in an open house format.

ADDRESSES: Written comments on the project scope should be sent to Kevin Michel, Transportation Planning Manager, Los Angeles County Metropolitan Transportation Authority, One Gateway Plaza, Mail Stop 99-22-5, Los Angeles, California, 90012-2952. All comments received will be forwarded to the FTA.

The scoping workshops will be held at the following locations: Sherman Oaks Woman's Club, 4808 Kester Avenue, Sherman Oaks, California, 91403 and at Kaiser Permanente, 5601 DeSoto Avenue, Woodland Hills, California 91367. Both locations are accessible to persons with disabilities. Spanish-speaking MTA staff will be present. If hearing-impaired services will be needed, please notify Mr. Michel at the MTA address above, or call TTY (800) 252-9040. Other questions about the scoping workshops may be directed by voice telephone to Mr. Michel at (213) 922-2854.

FOR FURTHER INFORMATION CONTACT: Ervin Poka or Ray Tellis, Federal Transit Administration/Federal Highway Administration Metropolitan Office, Telephone (213) 202-3950.

SUPPLEMENTARY INFORMATION: The FTA, in cooperation with the MTA, will prepare an Environmental Impact Statement (EIS) for a proposed public transit project in the San Fernando Valley, Los Angeles County California, to be implemented in an east-west corridor extending from the Metro Red Line station located in North Hollywood (scheduled to open on June 24, 2000) westward to Warner Center, a distance of approximately 14 miles. The purposes of the project are to improve east-west travel options in the San Fernando Valley and to provide a connection to other portions of the regional rail and bus network that is being planned and operated by the MTA.

FTA and MTA invite interested individuals, organizations, and federal, state, and local agencies to participate in defining the alternatives and environmental factors to be evaluated in the EIS/EIR. Scoping comments regarding these matters may be made at the workshops on the dates and at the locations indicated above. During scoping, comments should focus on identifying specific social, economic or environmental concerns to be evaluated and suggesting alternatives that should be considered during the EIS/EIR process. Scoping is not the appropriate time to indicate a preference for a particular alternative. Comments of that nature should be communicated after the draft EIS/EIR has been completed and publicized.

Scoping packets describing the proposed action will be sent to appropriate Federal, State and local agencies, and to other parties who are known to have shown an interest in the project.

Background: Transit planning for the San Fernando Valley has been underway since 1980, when Los Angeles County voters approved a ½ cent sales tax measure to fund regional rail improvements. In 1988, studies were conducted to identify alternatives, and in 1990 and 1992, the MTA completed an EIR and “Subsequent EIR” for the study corridor. These studies and environmental documents led to the identification of a preferred rail alignment along the existing Southern Pacific Burbank/Chandler Branch, following Chandler Boulevard, Oxnard Street, Victory Boulevard. and Topham Street, which the MTA subsequently purchased in 1990. Environmental documents meeting California standards were certified in 1990 and 1992, addressing alternatives along both the SP Burbank/Chandler Branch and the Ventura Freeway median alignments. In 1994 the MTA Board of Directors endorsed the SP Burbank/Chandler Branch alignment.

An alternatives screening report and major investment study was prepared in 1995/96. The report evaluated the relative cost-effectiveness of a broad range of project alternatives, including all the previously studied rail transit options. In 1997 a Draft EIS was in preparation when the MTA began a financial and organizational restructuring which put several rail projects, including rail planning for the San Fernando Valley, on hold.

As part of the restructuring, the MTA and other regional agencies studied the feasibility of building non-rail (bus) transit enhancements in previous rail corridors. In addition, the MTA board directed staff to proceed with a Bus Rapid Transit demonstration project. One of the demonstration lines is on Ventura Boulevard in the San Fernando Valley.

Description of the Study Area: The study corridor extends from the North Hollywood Red Line station (currently under construction), located at Lankershim Boulevard and Chandler Boulevard, west across the entire San Fernando Valley to the vicinity of the Warner Center Transit Hub. The length of the corridor is approximately 14 miles.

Alternatives: A range of alternatives is being considered as part of the EIS/EIR. These include the following:

No Build: This alternative would include the transit system primarily as it exists today, augmented by those additional projects for which a funding commitment has been made or which are reasonably expected to be in place by 2020. The Red Line would terminate at the North Hollywood station. Highway and HOV projects would be provided on a number of freeways. Existing bus headways would be maintained and the Rapid Bus Demonstration project on Ventura Boulevard would be implemented.

Transportation Systems Management/Best Bus: This alternative would not require major investment for capital cost items, but would rather focus its efforts on maximizing the efficiency of existing facilities and expanding and improving the existing bus system. Headways on routes covered by the TSM would be significantly reduced. TSM improvements would include various projects to enhance the performance of bus transit on major arterials where bus service frequencies would be increased.

Bus Rapid Transit Alternatives: Buses would run along an exclusive roadway built within the SP Burbank/Chandler ROW between the North Hollywood Metro Red Line Station on the east and the Transit Hub in Warner Center. Stations would be placed approximately every mile along the 14-mile route, at major cross streets and trip destinations. Buses would be given priority at signals. Headways within the busway would vary between five and two and one-half minutes during peak periods, and the existing Valley bus network would be integrated with the busway. In addition to the busway, enough space is available for a parallel bikeway along the corridor.

The corridor is being considered in two phases. If funding is limited, a segment of the full project busway between Woodman Avenue and Balboa Boulevard would be constructed as an initial phase, or Minimum Operable Segment. This first phase would include five stations. Buses would run on-street along Oxnard Street and Victory Boulevard to complete their runs from North Hollywood to Warner Center, and provide cross-Valley service.

Probable Effects: The FTA and MTA will evaluate all significant environmental, social and economic impacts of the alternatives analyzed in the draft EIS/EIR. Potential impact categories which will be evaluated include: Land Use and Development; Economic and Fiscal Impacts; Displacement and Relocation; Traffic Circulation and Parking; Community and Neighborhood Impacts; Environmental Justice; Visual and Aesthetic Impacts; Air Quality; Noise and Vibration; Geotechnical Considerations; Water Resources; Natural Resources; Energy; Safety and Security; Cultural Resources; Community Facilities and Parklands; and Construction Impacts. The impacts will be evaluated both for the construction period and the long-term period of operation. Measures to mitigate adverse impacts will also be addressed.

FTA Procedures: The EIS process will be performed in accordance with Federal Transit Laws and FTA's regulations and guidelines for preparing an Environmental Impact Statement. The impacts of the project will be assessed, and, if necessary, the scope of the project will be revised or refined to minimize and mitigate any adverse impacts. After its publication, the draft EIS will be available for public review and comment. At least one public hearing will be held. On the basis of the draft EIS and comments received, the project will be revised or further refined as necessary and the final EIS prepared.

Date Issued: May 15, 2000.
Leslie Rogers,
Regional Administrator.

[FR Doc. 00-12639 Filed 5-18-00; 8:45 am]

BILLING CODE 4910-57-P